ENVIRONMENTAL PROTECTION AGENCY

[FRL-6950-8]

Agency Information Collection Activities: Submission for OMB Review; Comment Request; Notification of Episodic Releases of Oil and Hazardous Substances

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: “Notification of Episodic Releases of Oil and Hazardous Substances,” OMB No. 2050-0046; expiration date February 28, 2001. The ICR describes the nature of the information collection and its expected burden and cost; where appropriate, it includes the actual data collection instrument.

DATES: Comments must be submitted on or before April 9, 2001.

ADDRESSES: Send comments, referencing EPA ICR No. 1049.09 and OMB Control No. 2050-0046, to the following addresses: Sandy Farmer, U.S. Environmental Protection Agency, Collection Strategies Division (Mail Code 2822), 1200 Pennsylvania Avenue, NW., Washington, DC 20460; and to Office of Information and Regulatory Affairs, Office of Management and Budget (OMB), Attention: Desk Officer for EPA, 725 17th Street, NW., Washington, DC 20503.

FOR FURTHER INFORMATION CONTACT: For a copy of the ICR contact Sandy Farmer at EPA by phone at (202) 260-2740, by E-mail at Farmer.sandy@epamail.epa.gov, or download off the Internet at http://www.epa.gov/icr and refer to EPA ICR No. 1049.09. For technical questions about the ICR contact Lynn Beasley, (703) 603-9086.

SUPPLEMENTARY INFORMATION: Title: Notification of Episodic Releases of Oil and Hazardous Substances, EPA ICR Number 1049.09, expiring February 28, 2001. This is a request for extension of a currently approved collection.

Abstract: Section 103(a) of CERCLA, as amended, requires the person in charge of a facility or vessel to immediately notify the National Response Center (NRC) of a hazardous substance release into the environment if the amount of the release equals or exceeds the substance's reportable quantity (RQ) limit. The RQ of every hazardous substance can be found in Table 302.4 of 40 CFR 302.4. Section 311 of the CWA, as amended, requires the person in charge of a vessel to immediately notify the NRC of an oil spill into U.S. navigable waters if the spill causes a sheen, violates applicable water quality standards, or causes a sludge or emulsion to be deposited beneath the surface of the water or upon adjoining shorelines. The reporting of a hazardous substance release that is above the substance's RQ allows the Federal government to determine whether a Federal response action is required to control or mitigate any potential adverse effects to public health or welfare or the environment. Likewise, the reporting of oil spills allows the Federal government to determine whether cleaning up the oil spill is necessary to mitigate or prevent damage to public health or welfare or the environment. The hazardous substance and oil release information collected under CERCLA section 103(a) and CWA section 311 also is available to EPA program offices and other Federal agencies who use the information to evaluate the potential need for additional regulations, new permitting requirements for specific substances or sources, or improved emergency response planning. Release notification information, which is stored in the national Emergency Response Notification System (ERNS) database, is available to State and local government authorities as well as the general public. The database resides at the National Response Center. The web address for the National Response Center is: http://www.nrc.uscg.mil/index.html. State and local government authorities and the regulated community use release information for purposes of local emergency response planning. Members of the general public, who have access to release information through the Freedom of Information Act, may request release information for purposes of maintaining an awareness of what types of releases are occurring in different localities and what actions, if any, are being taken to protect public health and welfare and the environment.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published initially published on June 13, 2000 (65 FR 37128); three comments were received. That Federal Register document was subsequently withdrawn on August 22, 2000 (65 FR 50985) so that additional information could be included in the Information Collection Request. The Federal Register document required under 5 CFR 1320.8(d), soliciting comments on this collection of information was republished on December 5, 2000 (65 FR 75930); two comments were received.

Burden Statement: The annual public reporting and record keeping burden for this collection of information is estimated to average 4.1 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Facilities or vessels that manufacture, process, transport, or use specified hazardous substances and oil.

Estimated Number of Respondents: 23,726.

Frequency of Response: When a reportable release occurs.

Estimated Total Annual Hour Burden: 97,277 hours.

Estimated Total Annualized Capital, Operating/Maintenance Cost Burden: 0.

Send comments on the Agency's need for this information, the accuracy of the provided burden estimates, and any suggested methods for minimizing respondent burden, including through the use of automated collection techniques to the addresses listed above. Please refer to EPA ICR No. 1049.09 and OMB Control No. 2050-0046 in any correspondence.

Dated: February 27, 2001.
Oscar Morales,
Director, Collection Strategies Division.

[FR Doc. 01-5857 Filed 3-8-01; 8:45 am]

BILLING CODE 6560-50-P